DEPARTMENT OF HOMELAND SECURITY

Coast Guard

33 CFR Chapter I

[USCG-2004-19615]

Exclusion Zones for Marine LNG Spills

AGENCY: Coast Guard, DHS.

ACTION: Request for comments; reopening of comment period.

SUMMARY: At the request of the Attorney General of Rhode Island, the Coast Guard is reopening the public comment period on a petition from the City of Fall River, Massachusetts. Fall River?s petition asks the Coast Guard to promulgate regulations establishing thermal and vapor dispersion exclusion zones for marine spills of liquefied natural gas, similar to Department of Transportation regulations for such spills on land. The Attorney General of Rhode Island asked that we reopen the comment period for an additional sixty days, to allow his office to review a threat analysis being prepared for its consideration.

DATES: Comments and related material must reach the Docket Management Facility on or before May 9, 2005.

ADDRESSES: You may submit comments identified by Coast Guard docket number USCG-2004-19615 to the Docket Management Facility at the U.S. Department of Transportation. To avoid duplication, please use only one of the following methods:

(1) Web site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

FOR FURTHER INFORMATION CONTACT: If you have questions on this notice, call Commander John Cushing at 202-267-1043 or e-mail JCushing@comdt.uscg.mil. If you have questions on viewing or submitting material to the docket, call Andrea M. Jenkins, Program Manager, Docket Operations, telephone 202-366-0271.

SUPPLEMENTARY INFORMATION:

Public Participation and Request for Comments

We encourage you to submit comments and related material on the petition for rulemaking. All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice (USCG-2004-19615), and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period.

Viewing the comments: To view the comments, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Background and purpose: As we stated in the original notice and request for public comments (69 FR 63979, Nov. 3, 2004), the City of Fall River, Massachusetts, has petitioned the Coast Guard to promulgate regulations establishing thermal and vapor dispersion exclusion zone requirements for liquefied natural gas (LNG) spills on water. The City asks that these regulations be similar to Department of Transportation regulations for LNG spills on land, contained in 49 CFR 193.2057 and 193.2059. In our original notice, we provided a public comment period that ended February 1, 2005. At the end of that comment period, we received a letter from the Attorney General of Rhode Island that read in part: “I wish to emphasize that my office is waiting for the completion of a Threat Analysis. I am formally requesting that the public comment period in this docket remain open for an additional sixty (60) days to allow for consideration of [that] report.” In light of this request, the Coast Guard is providing an additional sixty-day comment period. The public is invited to review the material contained in the docket and submit relevant comments. The Coast Guard will consider the City's petition, any comments received from the public, and other information to determine whether or not to initiate the requested rulemaking.

Dated: March 2, 2005.
Howard L. Hime,
Acting Director of Standards, Marine Safety, Security, and Environmental Protection, U.S. Coast Guard.

[FR Doc. 05-4600 Filed 3-9-05; 8:45 am]

BILLING CODE 4910-15-P